DEPARTMENT OF HOMELAND SECURITY

Coast Guard

[USCG-2009-0737]

Great Lakes Pilotage Advisory Committee

AGENCY: Coast Guard, DHS.

ACTION: Notice of meeting; request for applications.

SUMMARY: The Coast Guard announces the Great Lakes Pilotage Advisory Committee (GLPAC) 2009 annual meeting and seeks applications to fill one vacancy on the GLPAC. GLPAC provides advice and recommendations to the Secretary on issues related to pilotage on the Great Lakes. GLPAC's meeting will be open to the public.

DATES: GLPAC will meet on Monday, September 21, 2009, from 10 a.m. to 2 p.m. The meeting may close early if all business is finished. Written material and requests to make oral presentations or to have a copy of your material distributed to each member of the committee should reach us on or before September 14, 2009. Applications for GLPAC membership should reach us by October 2, 2009.

ADDRESSES: GLPAC will meet at Coast Guard Headquarters, 2100 2nd Street, SW., Washington, DC 20593-0001, Room 6303. Send written material and requests relating to the GLPAC meeting to Mr. John Bobb (see FOR FURTHER INFORMATION CONTACT). Electronically submitted material must be in Adobe or Microsoft Word format. Also, send applications for GLPAC membership to Mr. Bobb. An application form for GLPAC membership, as well as this notice, is available in our online docket, USCG-2009-0737, at http://www.regulations.gov; enter the docket number for this notice (USCG-2009-0737) in the Search box, and click “Go.” You may also contact Mr. Bobb for a copy of the application form.

FOR FURTHER INFORMATION CONTACT: Mr. John Bobb, GLPAC Assistant Designated Federal Official (ADFO), Commandant (CG-54121), U.S. Coast Guard Headquarters, 2100 Second Street, SW., Stop 7581, Washington, DC 20593-7581; telephone 202-372-1532, fax 202-372-1929, or e-mail at john.k.bobb@uscg.mil.

SUPPLEMENTARY INFORMATION: The GLPAC is a Federal advisory committee under 5 U.S.C. App. 2 (Pub. L. 92-463). It was established under the authority of 46 U.S.C. 9307, and advises the Secretary of Homeland Security and the Coast Guard on Great Lakes pilot registration, operating requirements, training policies, and pilotage rates.

GLPAC meets at least once a year, normally at Coast Guard Headquarters, Washington, DC. It may also meet for extraordinary purposes. Further information about GLPAC is available by searching on “Great Lakes Pilotage Advisory Committee” at http://www.fido.gov/facadatabase/.

Notice of Meeting

GLPAC's 2009 annual meeting will be held at Coast Guard Headquarters on September 21, 2009.

The agenda includes the following:

(1) GLPAC review of public comments solicited by the Coast Guard in the Federal Register of July 21, 2009 (“Great Lakes Pilotage Ratemaking Methodology,” 74 FR 35838), in accordance with requirements of 46 U.S.C. 9307(d) for consultation with GLPAC before taking any significant action relating to Great Lakes pilotage;

(2) Appointment of seventh member in compliance with requirements of 46 U.S.C. 9307(b)(2)(E);

(3) Election of chairman and vice chairman in compliance with requirements of 46 U.S.C. 9307(c)(1);

(4) GLPAC recommendation to Congress whether GLPAC be renewed and continued beyond its current termination date of September 30, 2010 in compliance with requirements of 46 U.S.C. 9307(f)(2).

(5) Report from the Director of Great Lakes Pilotage.

The meeting is open to the public. Please note that the meeting may close early if all business is finished. At the Chair's discretion, members of the public may make oral presentations during the meeting. For information on facilities or services for individuals with disabilities or to request special assistance at the meeting, contact Mr. John Bobb (see FOR FURTHER INFORMATION CONTACT) as soon as possible.

Request for Applications

We will consider applications to fill one vacancy on the committee. To be eligible, candidates must have a background in finance or accounting. The person selected must be recommended to the Secretary by unanimous vote of GLPAC's other members, and may be appointed without regard to the requirement that each member have five years of practical experience in maritime operations. The person selected may, but need not, come from among those who respond to this request for applications. The person selected will serve for a term of three years, which may be renewed once. Members serve at their own expense and receive no salary but may be reimbursed for travel expenses.

In support of the Coast Guard policy on gender and ethnic nondiscrimination, we encourage qualified men and women and members of all racial and ethnic groups to apply. The Coast Guard values diversity; all the different characteristics and attributes of persons that enhance the mission of the Coast Guard.

The person selected to fill this vacancy will be appointed and serve as a Special Government Employee (SGE) as defined in section 202 (a) of title 18, United States Code. As a candidate for appointment as SGE, applicants are required to complete a Confidential Financial Disclosure Report (OGE Form 450). A completed OGE Form 450 is not releasable to the public except under an order issued by a Federal court or as otherwise provided under the Privacy Act (5 U.S.C. 552a). Only the Designated Agency Ethics Official or the DAEO's designate may release a Confidential Financial Disclosure Report.

Dated: August 19, 2009.
Rajiv Khandpur,
U.S. Coast Guard, Acting Chief, Office of Waterways Management.

[FR Doc. E9-20510 Filed 8-25-09; 8:45 am]

BILLING CODE 4910-15-P